DEPARTMENT OF COMMERCE

National Oceanic and Atmospheric Administration

50 CFR Part 648

[Docket No. 140106011-4338-02]

RIN 0648-XD458

Fisheries of the Northeastern United States; Northeast Multispecies Fishery; Closure for the Common Pool Fishery

AGENCY: National Marine Fisheries Service (NMFS), National Oceanic and Atmospheric Administration (NOAA), Commerce.

ACTION: Temporary rule; area closure.

SUMMARY: This action closes the Eastern U.S./Canada Area for Northeast multispecies common pool vessels for the remainder of fishing year 2014, through April 30, 2015. Based on recent data, the common pool fishery has caught 130 percent of its Eastern Georges Bank cod total allowable catch, triggering the regulatory requirement to close the area for the remainder of the fishing year. This action is intended to prevent further overage of the common pool's annual quota of Eastern Georges Bank cod.

DATES: This action is effective August 26, 2014, through April 30, 2015.

FOR FURTHER INFORMATION CONTACT: Liz Sullivan, Fishery Management Specialist, 978-282-8493.

SUPPLEMENTARY INFORMATION: Federal regulations at § 648.85(a)(3)(iv)(E) require the Regional Administrator to close the Eastern U.S./Canada Area when any individual total allowable catch (TAC) allocation for the area is projected to be caught. In such cases, the Eastern U.S./Canada Area (including any Special Access Programs (SAPs) that reside in this area) closes to all common pool vessels, i.e. Northeast (NE) multispecies limited access non-sector vessels and NE multispecies open access vessels. The fishing year 2014 (May 1, 2014, through April 30, 2015) common pool TAC for Eastern Georges Bank cod is 3.0 mt. Based on the most recent data and information, which include vessel trip reports, dealer-reported landings, and vessel monitoring system information, we have determined that 130 percent of the fishing year TAC was caught as of August 19, 2014. Because of the low catch limit and the rate at which a common pool vessel can harvest Eastern Georges Bank cod, it was not possible to initiate this action before the point that the fishing year TAC was exceeded. Therefore, effective August 26, 2014, the Eastern U.S./Canada Area is closed for the remainder of the fishing year, through April 30, 2015, to all common pool vessels. Effective August 26, 2014, it is unlawful for a common pool vessel to declare into, enter, or fish in the Eastern U.S./Canada Area. This restriction does not apply to the groundfish trip of a common pool vessel that crossed the VMS demarcation line before August 26, 2014. The Eastern U.S./Canada Area will reopen to common pool vessels at the beginning of fishing year 2015, on May 1, 2015. Any overages of an Eastern Georges Bank TAC will be deducted from the following fishing year.

Weekly quota monitoring reports for the common pool fishery can be found on our Web site at: http://www.nero.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The Eastern U.S./Canada Area closure is required by regulation in order to reduce the probability of the common pool fishery exceeding its TAC of Eastern Georges Bank cod, or if exceeded, reduce further overage of the TAC. Any overages of the common pool's TACs would undermine conservation objectives and trigger the implementation of accountability measures that would have negative economic impacts on common pool vessels. The data and information showing that Eastern Georges Bank cod is projected to have exceeded its TAC for the stock only became available recently. The time necessary to provide for prior notice and comment, and a 30-day delay in effectiveness, would prevent NMFS from implementing the necessary

Eastern U.S./Canada Area closure in a timely manner, which could undermine management objectives of the NE Multispecies Fishery Management Plan, and cause negative economic impacts to the common pool fishery.

Authority: 16 U.S.C. 1801 et seq.

Dated: August 26, 2014.
Alan D. Risenhoover,
Director, Office of Sustainable Fisheries, National Marine Fisheries Service.

[FR Doc. 2014-20649 Filed 8-26-14; 4:15 pm]

BILLING CODE 3510-22-P